DEPARTMENT OF ENERGY

Federal Energy Regulatory Commission

[Docket No. RP02-163-002]

Florida Gas Transmission Company; Notice of Compliance Filing

May 8, 2002.

Take notice that on April 19, 2002, Florida Gas Transmission Company (FGT) tendered for filing additional documentation and support for the proposed fuel retention percentages as directed by Commission letter order issued March 28, 2002, (March 28 Order) in this proceeding. By filing this response, FGT is not agreeing that its lost and unaccounted-for gas percentages, or the variations in these percentages from period to period, are in any way abnormal or unreasonable, as suggested by the wording in the March 28 Order. FGT is filing concurrently herewith a Request for Clarification and/or Rehearing of the Commission's March 28 Order on this point.

Any person desiring to protest said filing should file a protest with the Federal Energy Regulatory Commission, 888 First Street, NE., Washington, DC 20426, in accordance with Section 385.211 of the Commission's rules and regulations. As directed in the March 28, 2002 order, all such protests must be filed on or before May 19, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-12000 Filed 5-13-02; 8:45 am]

BILLING CODE 6717-01-P